ENVIRONMENTAL PROTECTION AGENCY

[Docket # EPA-RO4-SFUND-2007-0650; FRL-8451-2]

Georgia-Pacific Hardwood Site; Plymouth, Washington County, NC

AGENCY: Environmental Protection Agency.

ACTION: Notice of withdrawal of settlement.

SUMMARY: In the Federal Register published on July 13, 2007, 72 FR 38580, EPA posted a Notice of Settlement for past cost under Section 122(h) of the Comprehensive Environmental Response, Compensation and Liability Act (CERCLA), concerning the Georgia-Pacific Hardwood Site located in Plymouth, Washington County, North Carolina. The settlement is not finalized and was prematurely posted in the Federal Register.

DATES: EPA is withdrawing the Notice of Settlement and closing the comment period at this time. The Agency will re-submit a finalized Settlement for comments in the future.

FOR FURTHER INFORMATION CONTACT: Paula V. Batchelor at 404-562-8887 or by e-mail Batchelor.Paula@EPA.Gov.

Dated: July 23, 2007.
Rosalind H. Brown,
Chief, Superfund Enforcement & Information Management Branch Superfund Division.

[FR Doc. E7-15330 Filed 8-6-07; 8:45 am]

BILLING CODE 6560-50-P